DEPARTMENT OF THE INTERIOR

National Park Service

Transfer of Administrative Jurisdiction at or Near Great Sand Dunes National Park

AGENCY: National Park Service, Interior.

ACTION: Notice.

SUMMARY: As required by law, the Secretary of the Interior has transferred to the appropriate agencies jurisdiction over lands acquired for the benefit of Great Sand Dunes National Park, Baca National Wildlife Refuge, and the Rio Grande National Forest.

ADDRESSES: Maps, deeds, and documents related to this transfer may be reviewed at the National Park Service Land Resources Program Center, Intermountain Region, 12795 West Alameda Parkway, Lakewood, Colorado 80225-0287. The approved survey plats and field notes will be available for review at the Colorado State Office of the Bureau of Land Management, 2850 Youngfield Street, Lakewood, Colorado 80215.

FOR FURTHER INFORMATION CONTACT: John Wessels, Director, Intermountain Region, National Park Service, P.O. Box 25287, 12795 West Alameda Parkway, Lakewood, Colorado 80225-0287.

SUPPLEMENTARY INFORMATION: As authorized by section 8(a) of Public Law 106-530 (114 Stat. 2527, 2532), the Secretary of the Interior (Secretary) acquired certain lands and interests in land for the benefit of Great Sand Dunes National Park, Baca National Wildlife Refuge, and the Rio Grande National Forest. Section 8(c) of Public Law 106-530 directed the Secretary to transfer administrative jurisdiction of these lands, as appropriate, to the National Park Service for addition to and administration as part of the Great Sand Dunes National Park; to the United States Fish and Wildlife Service for addition to and administration as part of the Baca National Wildlife Refuge; and to the Secretary of Agriculture, for addition to and administration as part of the Rio Grande National Forest. The transferred lands were depicted on the map having drawing number 140/80/032 and were divided into zones as depicted on an exhibit map having drawing number 140/30,003.

Under the provisions of Section 8(c) of Public Law 106-530, and effective on November 22, 2000, the following transfers were made:

• Administrative jurisdiction of those lands depicted on the exhibit map as Zone A to the United States Fish and Wildlife Service for addition to and administration as part of the Baca National Wildlife Refuge;

• Administrative jurisdiction on those lands depicted on the exhibit map as Zone B to the Secretary of Agriculture for addition to and administration as part of the Rio Grande National Forest; and

• Administrative jurisdiction on those lands depicted on the exhibit map as Zone C to the National Park Service for addition to and administration as part of the Great Sand Dunes National Park.

The boundaries of all or portions of these zones are being surveyed by the Bureau of Land Management, Department of the Interior. Upon approval by the Bureau of Land Management, these surveys will supplement this notice of transfer by providing the exact locations of the boundaries separating these zones. The approved survey plats and field notes will be available for review at the Colorado State Office of the Bureau of Land Management.

Rachel Jacobson,
Acting Assistant Secretary for Fish and Wildlife and Parks.

[FR Doc. 2011-23370 Filed 9-14-11; 8:45 am]

BILLING CODE 4312-CL-M